ENVIRONMENTAL PROTECTION AGENCY

40 CFR Part 300

[EPA-HQ-SFUND-1990-0011; FRL-9999-68-Region 8]

National Oil and Hazardous Substances Pollution Contingency Plan; National Priorities List: Deletion of the Mystery Bridge Rd./U.S. Highway 20 Superfund Site

AGENCY: Environmental Protection Agency (EPA).

ACTION: Final rule.

SUMMARY: The Environmental Protection Agency (EPA) Region 8 announces the deletion of the Mystery Bridge Rd./U.S. Highway 20 Superfund Site (Site) located in Evansville, WY, from the National Priorities List (NPL). The NPL, promulgated pursuant to section 105 of the Comprehensive Environmental Response, Compensation, and Liability Act (CERCLA) of 1980, as amended, is an appendix of the National Oil and Hazardous Substances Pollution Contingency Plan (NCP). The EPA and the State of Wyoming, through the Wyoming Department of Environmental Quality, have determined that all appropriate response actions under CERCLA, other than maintenance of institutional controls and five-year reviews, have been completed. However, this deletion does not preclude future actions under Superfund.

DATES: This action is effective September 20, 2019.

ADDRESSES: Docket: EPA has established a docket for this action under Docket Identification No. EPA-HQ-SFUND-1990-001. All documents in the docket are listed on the http://www.regulations.gov website. Although listed in the index, some information is not publicly available, i.e., Confidential Business Information or other information whose disclosure is restricted by statute. Certain other material, such as copyrighted material, is not placed on the internet and will be publicly available only in hard copy form. Publicly available docket materials are available either electronically through http://www.regulations.gov or in hard copy at the site information repositories. Locations, contacts, phone numbers and viewing hours are: U.S. EPA Region 8, Superfund Records Center and Technical Library, 1595 Wynkoop Street, Denver, CO 80202, Viewing hours: 8 a.m. to 4 p.m., Monday through Thursday, excluding holidays; contact: Andrew Schmidt; (303) 312-6283, email: schmidt.andrew@epa.gov.; and Natrona County Public Library, Reference Desk, 307 East 2nd Street, Casper, WY 82601-2593, (307) 777-7323, Hours: Monday through Thursday: 9 a.m. to 7 p.m., Friday and Saturday: 9 a.m. to 5 p.m.

FOR FURTHER INFORMATION CONTACT: Andrew Schmidt, Remedial Project Manager, U.S. Environmental Protection Agency, Region 8, SEM-R8-SA, 1595 Wynkoop St., Denver, CO 80211, (303) 312-6283, email: schmidt.andrew@epa.gov.

SUPPLEMENTARY INFORMATION: The site to be deleted from the NPL is: Mystery Bridge Rd./U.S. Highway 20 Superfund Site, Evansville, WY. A Notice of Intent to Delete for this Site was published in the Federal Register (84 FR 35360) on July 23, 2019.

The closing date for comments on the Notice of Intent to Delete was August 22, 2019. No public comments were received.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: September 4, 2019.
Gregory E. Sopkin,
Regional Administrator, Region 8.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Appendix B to Part 300—[Amended]

2. Table 1 of appendix B to part 300 is amended by removing the entry “WY”, “Mystery Bridge Road/U.S. Highway 20”, “Evansville/Natrona”.

[FR Doc. 2019-19993 Filed 9-19-19; 8:45 am]

BILLING CODE 6560-50-P